DEPARTMENT OF THE INTERIOR

National Park Service

[NPS-PWR-PWRO-15903; PX.P0131800B.00.1]

Record of Decision for Tuolumne River Comprehensive Management Plan, Yosemite National Park, California

AGENCY: National Park Service, Interior.

ACTION: Notice of Availability.

SUMMARY: The National Park Service has prepared and approved a Record of Decision for the Final Environmental Impact Statement for the Tuolumne River Comprehensive Management Plan. Approval of the Tuolumne River Comprehensive Management Plan concludes an extensive conservation planning and environmental impact analysis effort that began during 2005. The requisite no-action “wait period” was initiated on March 14, 2014, with the Environmental Protection Agency's Federal Register announcement of the filing of the Final EIS.

ADDRESSES: Those wishing to review the Record of Decision may obtain a copy by contacting the Superintendent, Attn: Division of Project Management, Yosemite National Park, P.O. Box 700-W, 5083 Foresta Road, El Portal, CA 95318 or via telephone request at (209) 379-1202.

FOR FURTHER INFORMATION CONTACT: Kathleen Morse, Chief of Planning, (209) 379-1270.

SUPPLEMENTARY INFORMATION: The National Park Service has prepared and approved a Record of Decision for the Final Environmental Impact Statement for the Tuolumne River Comprehensive Management Plan. This process was conducted pursuant § 102(2)(C) of the National Environmental Policy Act of 1969 (Pub. L. 91-190, as amended) and the regulations promulgated by the Council on Environmental Quality (40 CFR 1505.2). The National Park Service has selected “agency preferred” Alternative 4 (with minor modifications incorporated in regards to continued operations of the Glen Aulin High Sierra Camp) for implementation as the approved Tuolumne River Comprehensive Management Plan.

Under the selected alternative, Tuolumne Meadows will retain its rustic character, the scenic driving experience through the corridor area will be enhanced, and limited facilities and services will be provided. There will be a comprehensive restoration program, including a rigorous program of monitoring and adaptive management. The Tuolumne Meadows campground will be completely rehabilitated. Approximately 4,700 people at one time will be accommodated in the entire Tuolumne River corridor during periods of peak visitation.

Selected key components of the approved plan are as follows: (1) Restore 171 acres of meadow and riparian habitat, including removing concessioner housing, 21 campground sites, and other structures that are too close to the river; (2) mitigate effects of stock grazing in Lyell Canyon by establishing fixed campsites with approved access routes and implement a grazing capacity based on establishing range-readiness criteria for stock grazing; (3) provide for a new visitor contact station adjacent to Tioga Road across from Parsons Memorial Lodge, including parking for day use hikers (the old contact station will be converted to office space and its appurtenant parking will be re-purposed for use by hikers to Cathedral Lakes); (4) continue traditional recreational activities such as hiking, climbing, and artistic pursuits, and allow whitewater boaters to float new river reaches through the Grand Canyon of the Tuolumne; and (5) increase shuttle frequency within Tuolumne Meadows during periods of peak use, and provide additional transit runs connecting to Yosemite Valley and Mammoth Lakes.

Four other alternatives were evaluated, the full range of foreseeable environmental consequences was assessed, and appropriate mitigation measures were identified.

Dated: September 11, 2014.
Christine S. Lehnertz,
Regional Director, Pacific West Region.

[FR Doc. 2014-22841 Filed 9-24-14; 8:45 am]

BILLING CODE 4312-FF-P